DEPARTMENT OF HEALTH AND HUMAN SERVICES

Centers for Disease Control and Prevention

[Program Announcement 01142]

Clinical and Laboratory Training in HIV/AIDS Care in the Republic of Uganda; Notice of Availability of Funds

A. Purpose

The Centers for Disease Control and Prevention (CDC) announces the availability of fiscal year (FY) 2001 funds for a cooperative agreement program for clinical and laboratory training in HIV/AIDS Care in the Republic of Uganda.

The purpose of this program is to improve quality of life for people living with AIDS in Uganda by training health care providers in HIV/AIDS-related care.

The U.S. Government seeks to reduce the impact of HIV/AIDS in specific countries within sub-Saharan Africa, Asia, and the Americas through its Leadership and Investment in Fighting an Epidemic (LIFE) initiative. Through this LIFE program, CDC has initiated its Global AIDS Program (GAP) to strengthen capacity and expand activities in the areas of (1) HIV primary prevention; (2) HIV care, support, and treatment, and capacity and infrastructure development. Targeted countries represent those with the most severe epidemics and the highest number of new infections. They also represent countries where the potential for impact is greatest and where U.S. Government agencies are already active. Uganda is one of these targeted countries.

Uganda has an estimated population of over 21 million, of which 8.3 percent (one out of twelve people) are thought to be HIV-positive. Training in appropriate in-patient, out-patient, and home-based care of people with HIV/AIDS are critical components of holistic health services. However, public and private health units have a notable shortage of clinical staff with the necessary skills and knowledge to provide comprehensive care to adults and children living with HIV/AIDS, particularly in rural areas. There is also a demonstrated need to increase access to effective home-based care, since access to in-patient care facilities is limited and expensive.

A program to offer and expand training is therefore essential in order for care-givers throughout the country to acquire the knowledge necessary to give quality HIV/AIDS care. The aim of improving the quality of life of adults and children living with AIDS in Uganda can be achieved by making training in HIV/AIDS care accessible to health care providers throughout the country and by building local capacity in order to deal effectively with the health care needs of people living with AIDS.

B. Eligible Applicants

Applications may be submitted by public and private non-profit organizations that meet the following criteria:

1. Have at least three years of documented HIV/AIDS-related clinical training experience in Uganda; and

2. Have existing laboratory and clinical facilities and training programs in Uganda.

C. Availability of Funds

Approximately $1,500,000 is available in FY 2001 to fund one award. It is expected that the award will begin on or about September 30, 2001, and will be made for a 12-month budget period within a project period of up to three years. Funding estimates may change.

Continuation awards within an approved project period will be made on the basis of satisfactory progress as evidenced by required reports and the availability of funds.

Use of Funds

Funds may be used for:

1. Expenses required to provide training (both at the central facility and at field locations), including salaries, travel for training staff to rural areas, reference materials (periodicals, journals, books, etc.), and renovation or expansion of clinical/training facilities;

2. Acquisition or improvement of services and equipment for the designated purpose of enhancing training of health care providers; this may include laboratory, radiology, and information technology equipment as needed for the central training facility;

3. Development and reproduction of training guidelines, care handbooks, and other materials;

4. Follow-up and evaluation activities.

Funds may not be used for the direct provision of clinical care, to purchase pharmaceuticals, or for activities or facilities unrelated to training in HIV/AIDS care and support.

Funds received from this announcement will not be used for the purchase of antiretroviral drugs for treatment of established HIV infection, occupational exposures, and non-occupational exposures and will not be used for the purchase of machines and reagents to conduct the necessary laboratory monitoring for patient care.

No funds appropriated under this Act shall be used to carry out any program of distributing sterile needles or syringes for the hypodermic injection of any illegal drug.

Applicants may contract with other organizations under these cooperative agreements, however, applicants must perform a substantial portion of the activities including program management and operations and delivery of prevention services for which funds are requested.

The costs that are generally allowable in grants to domestic organizations are likewise allowable to foreign institutions and international organizations, with the following exceptions:

1. Customs and Import Duties: Unallowable. This includes consular fees, customs surtax, value added taxes, and other related charges.

2. Indirect Costs: With the exception of the American University, Beirut, the Gorgas Memorial Institute, and the World Health Organization, indirect costs will not be paid (either directly or through a sub-award) to organizations located outside the territorial limits of the United States or to international organizations regardless of their location.

3. Patient Care: Patient care costs under foreign grants will be provided only in exceptional circumstances and then only with the prior approval of the PHS awarding office.

D. Program Requirements

In conducting activities to achieve the purpose of this program, the recipient will be responsible for the activities under 1. (Recipient Activities), and CDC will be responsible for the activities listed under 2. (CDC Activities).

1. Recipient Activities

a. Develop and provide training, based on needs analysis for health care providers in the form of both (1) courses and (2) the provision of supervised clinical care situations (e.g., hospital or HIV/AIDS-focused clinic) for theoretical, experiential, and participatory learning purposes; training should be held at both the central facility and at rural sites.

b. Develop and offer a wide range of relevant courses based on needs analysis; for example, training in the prevention of opportunistic infections; training in diagnosis and treatment of the most common opportunistic infections and those that cause the most morbidity and mortality in Uganda; training in laboratory equipment, consumables, and skills necessary for making basic diagnoses of HIV and opportunistic infections such as cryptococcal meningitis, tuberculosis, and STDs; an advanced course in the appropriate use of antiretrovirals (ARVs), including laboratory monitoring; and training in the provision of social and psychological support for persons with HIV and their families.

c. Collaborate with CDC and the Ministry of Health in developing and maintaining medical record information forms suitable for facilities working in HIV/AIDS care.

d. Collaborate with the Ugandan Ministries of Health and Education and the Uganda AIDS Commission to develop appropriate and approved training packages.

e. Collaborate with The AIDS Support Organization (TASO) in designing and implementing training for its staff.

f. Develop curricula and training materials and guidelines related to HIV/AIDS care for multiple levels of health care providers (e.g., doctors, nurses, community health workers, and/or other care-givers); these materials should meet high standards of technical content and training methodology and should include handbooks, trainer manuals, and training-of-trainer manuals.

g. Train health care providers from district and rural health facilities to become trainers in order to implement standardized, cascading training programs in AIDS care in rural settings throughout Uganda.

h. Conduct follow-up assessment and further training of training alumni at their rural work sites, providing additional focused support as necessary to facilitate implementation of a clinical care program tailored to individual sites.

i. Evaluate the impact of the training on care and develop further appropriate training initiatives.

j. Ensure that the above activities are undertaken in a manner that is integrated with the national HIV/AIDS strategy.

2. CDC Activities

a. Provide technical assistance, as needed, in the development of training curricula, materials, and diagnostic therapeutic guidelines.

b. Collaborate with recipient, as needed, in the development of an information technology system for medical record-keeping and information access and in the analysis of data derived from such records.

c. Assist, as needed, in evaluation of training and in development of further appropriate training initiatives.

d. Assist, as needed, in appropriate analysis and interpretation of data collected during training sessions as needed.

e. Provide input, as needed, into the criteria for selection of candidates, clinics, and districts involved in training.

f. Provide input, as needed, into the overall program strategy.

g. Collaborate, as needed, with the recipient in the selection of key personnel to be involved in the activities performed under this agreement.

E. Application Content

Use the information in the Program Requirements, Other Requirements, and Evaluation Criteria sections to develop the application content. Your application will be evaluated on the criteria listed, so it is important to follow them in laying out your program plan. The narrative should be no more than 25 double-spaced pages, printed on one side, with one-inch margins, and unreduced font. Pages should be numbered, and a complete index to the application and any appendices must be included.

F. Submission and Deadline

Submit the original and two copies of PHS 5161-1 (OMB Number 0920-0428). Forms are available in the application kit and at the following Internet address: www.cdc.gov/od/pgo/forminfo.htm.

On or before July 25, 2001, submit an electronic or hard copy of the application to the Grants Management Specialist identified in the “Where to Obtain Additional Information” section of this announcement. If you choose to submit your application electronically, you should submit hard copies of your application on or before August 9, 2001.

Deadline: Applications shall be considered as meeting the deadline if they are either:

1. Received on or before the deadline date; or

2. Sent on or before the deadline date and received in time for submission to the independent review group.

Late Applications: Applications which do not meet the criteria 1 or 2 above will be returned to the applicant.

G. Evaluation Criteria

Each application will be evaluated individually against the following criteria by an independent review group appointed by CDC.

1. Understanding of the Problem (10 points)

The extent to which the applicant demonstrates a clear, concise understanding of the nature of the problem to be addressed; this specifically includes a description of the gaps in current programs and related activities in Uganda, as well as a realistic presentation of proposed objectives

2. Training Opportunities (30 points)

(a) The number, depth, variety, and value of training and learning opportunities that the applicant proposes to offer, as well as the variety of trainees the applicant is prepared to target; (b) the extent to which the training proposed by the applicant includes participatory, experiential learning for the trainees; and (c) the extent to which the applicant specifies the content and structure of the training materials and programs.

3. Strategy (20 points)

The extent to which the applicant has developed a strategic approach to the development of a training program that balances urgency with the time required to develop quality services and materials.

4. Ability To Carry Out the Project (10 points)

The extent to which the applicant documents having the organizational infrastructure and documented experience necessary to achieve the purpose of this project.

5. Program Objective and Plan (15 points)

The extent to which program objectives are specific, measurable, time phased and realistic; and the extent to which the plans for implementing project activity mirror program objectives and will facilitate their achievement.

6. Personnel (15 points)

The extent to which professional personnel involved in this project are qualified, including evidence of experience similar to this project.

7. Budget (not scored)

The extent to which itemized budget for conducting the project, along with justification, is reasonable and consistent with stated objectives and planned program activities.

H. Other Requirements

Technical Reporting Requirements

Provide CDC with original plus two copies of:

1. quarterly progress reports;

2. financial status report, no more than 90 days after the end of the budget period; and

3. final financial and performance reports, no more than 90 days after the end of the project period.

4. awardee is required to obtain annual audit of these CDC funds (program-specific audit) by a U.S.-based audit firm with international branches and current licensure/authority in-country, and in accordance with International Accounting Standards or equivalent standards(s) approved in writing by CDC.

The following additional requirements are applicable to this program. For a complete description of each, see Attachment I of the announcement.

AR-6 Patient Care

AR-10 Smoke-Free Workplace Requirements

AR-12 Lobbying Restrictions

AR-14 Accounting System Requirements

AR-15 Proof of Non-Profit Status

I. Authority and Catalog of Federal Domestic Assistance Number

This program is authorized under section 307 of the Public Health Service Act, (42 U.S.C. section 242I), as amended. The Catalog of Federal Domestic Assistance number is 93.941.

J. Where To Obtain Additional Information

This and other CDC announcements can be found on the CDC home page Internet address—http://www.cdc.gov Click on “Funding” then “Grants and Cooperative Agreements.”

To obtain business management technical assistance, contact: Dorimar Rosado, Grants Management Specialist, Grants Management Branch, Procurement and Grants Office, Centers for Disease Control and Prevention, 2920 Brandywine Road, Room 3000, Atlanta, GA 30341-4146, Telephone: (770) 488-2782, Email: dpr7@cdc.gov.

For program technical assistance, contact: Jonathan Mermin, MD, MPH, Global AIDS Program (GAP), Uganda Country Team, National Center for HIV, STD, and TB Prevention, Centers for Disease Control and Prevention (CDC), P.O. Box 49, Entebbe, Uganda, Telephone: 41-320-776, Email: jhm7@cdc.gov.

Dated: June 26, 2001.
John L. Williams,
Director, Procurement and Grants Office, Centers for Disease Control and Prevention (CDC).

[FR Doc. 01-16535 Filed 6-29-01; 8:45 am]

BILLING CODE 4163-18-P